DEPARTMENT OF LABOR

Employment and Training Administration

[TA-W-40,938]

Marathon Electric Regal-Beloit Corporation, West Plains, MO; Notice of Termination of Investigation

Pursuant to section 221 of the Trade Act of 1974, an investigation was initiated on March 4, 2002 in response to a worker petition, which was filed on behalf of workers at Marathon Electric, subsidiary of Regal-Beloit Corporation, West Plains, Missouri.

The petitioners have requested that the petition be withdrawn. Consequently, further investigation in this case would serve no purpose, and the investigation has been terminated.

Signed in Washington, DC this 9th day of April 2002.
Linda G. Poole,
Certifying Officer, Division of Trade Adjustment Assistance.

[FR Doc. 02-9754 Filed 4-19-02; 8:45 am]

BILLING CODE 4510-30-M